DEPARTMENT OF THE INTERIOR

Fish and Wildlife Service

Notice of Availability; Draft Environmental Impact Statement on Resident Canada Goose Management

AGENCY: Fish and Wildlife Service, Interior.

ACTION: Notice of availability for public comment.

SUMMARY: The U.S. Fish and Wildlife Service (Service) has prepared a Draft Environmental Impact Statement (DEIS) which is available for public review. The DEIS analyzes the potential environmental impacts of alternative strategies to reduce, manage, and control resident Canada goose populations in the continental United States and to reduce goose-related damages. The analysis provided in the DEIS is intended to accomplish the following: inform the public of the proposed action and alternatives; address public comment received during the scoping period; and disclose the direct, indirect, and cumulative environmental effects of the proposed actions and each of the alternatives. The Service invites the public to comment on the DEIS.

DATES: Written comments on the DEIS must be received by May 30, 2002.

ADDRESSES: Requests for copies of the DEIS should be mailed to Chief, Division of Migratory Bird Management, U.S. Fish and Wildlife Service, Department of the Interior, ms 634-ARLSQ, 1849 C Street NW., Washington, DC 20240. Comments on the DEIS should be sent to the above address.

FOR FURTHER INFORMATION CONTACT: Jon Andrew, Chief, Division of Migratory Bird Management, or Ron Kokel (703) 358-1714.

SUPPLEMENTARY INFORMATION: On August 19, 1999, a notice was published in the Federal Register (64 FR 45269) announcing that the Service intended to prepare an Environmental Impact Statement for resident Canada goose management. Comments were received and considered and are reflected in the DEIS made available for comment through this notice. This notice is provided pursuant to Fish and Wildlife Service regulations for implementing the National Environmental Policy Act of 1969 (40 CFR 1506.6).

Several public hearings will be held throughout the country during the comment period to solicit oral comments from the public. The dates and locations of these hearings are yet to be determined. A notice of public meetings with the locations, dates, and times will be published in the Federal Register.

We will not consider anonymous comments. All comments received, including names and addresses, will become part of the public record. The public may inspect comments during normal business hours in Room 634—Arlington Square Building, 4401 N. Fairfax Drive, Arlington, Virginia. Requests for such comments will be handled in accordance with the Freedom of Information Act and the Council on Environmental Quality's National Environmental Policy Act regulations (40 CFR 1506.6(f)). Our practice is to make comments available for public review during regular business hours. Individual respondents may request that we withhold their home address from the record, which we will honor to the extent allowable by law. If a respondent wishes us to withhold his/her name and/or address, this must be stated prominently at the beginning of the comment.

The DEIS evaluates alternative strategies to reduce, manage, and control resident Canada goose populations in the continental United States and to reduce goose-related damages. The objective of the DEIS is to provide a regulatory mechanism that would allow State and local agencies, other Federal agencies, and groups and individuals to respond to damage complaints or damages by resident Canada geese. The DEIS is a comprehensive programmatic plan intended to guide and direct resident Canada goose population growth and management activities in the conterminous United States. The DEIS analyzes seven management alternatives: (1) No Action (Alternative A); (2) Increase Use of Nonlethal Control and Management (excludes all permitted activities) (Alternative B); (3) Increase Use of Nonlethal Control and Management (continued permitting of those activities generally considered nonlethal) (Alternative C); (4) New Regulatory Options to Expand Hunting Methods and Opportunities (Alternative D); (5) Integrated Depredation Order Management (consisting of an Airport Depredation Order, a Nest and Egg Depredation Order, a Agricultural Depredation Order, and a Public Health Depredation Order) (Alternative E); (6) State Empowerment (PROPOSED ACTION) (Alternative F); and (7) General Depredation Order (Alternative G). Alternatives were analyzed with regard to their potential impacts on resident Canada geese, other wildlife species, natural resources, special status species, socioeconomics, historical resources, and cultural resources.

Our proposed action (Alternative F) would establish a regulation authorizing State wildlife agencies (or their authorized agents) to conduct (or allow) management activities, including the take of birds, on resident Canada goose populations. Alternative F would authorize indirect and/or direct population control strategies such as aggressive harassment, nest and egg destruction, gosling and adult trapping and culling programs, expanded methods of take to increase hunter harvest, or other general population reduction strategies. The intent of Alternative F is to allow State wildlife management agencies sufficient flexibility, within predefined guidelines, to deal with problems caused by resident Canada geese within their respective States. Other guidelines under Alternative F would include criteria for such activities as special expanded harvest opportunities during the portion of the Migratory Bird Treaty closed period (August 1-31), airport, agricultural, and public health control, and the non-permitted take of nests and eggs.

Dated: February 14, 2002.
Steve Williams,
Director.

[FR Doc. 02-5420 Filed 3-6-02; 8:45 am]

BILLING CODE 4310-55-P